DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 308 individuals and entities whose property and interests in property have been unblocked pursuant to Executive Order 12978 (the “Order”) of October 21, 1995, “Blocking Assets and Prohibiting Transactions With Significant Narcotics Traffickers.” As a result, U.S. persons no longer require authorization from OFAC to deal with the 308 individuals and entities, and any restrictions imposed by specific or general licenses issued by OFAC with respect to dealing with the 308 individuals and entities no longer apply.

DATES: The unblocking and removal from the list of Specially Designated Nationals and Blocked Persons (“SDN List”) of the 308 individuals and entities identified in this notice whose property and interests in property were blocked pursuant to Executive Order 12978 of October 21, 1995, is effective on June 19, 2014.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 19, 2014, the Director of OFAC removed from the SDN List the 308 individuals and entities listed below, whose property and interests in property were blocked pursuant to the Order. As a result, U.S. persons no longer require authorization from OFAC to deal with the 308 individuals and entities listed below, and any restrictions imposed by specific or general licenses issued by OFAC with respect to dealing with the 308 individuals and entities no longer apply.

Individuals

1. AGUILERA QUIJANO, Harold, c/o ASESORIAS COSMOS LTDA., Cali, Colombia; DOB 28 Feb 1958; Cedula No. 16594227 (Colombia) (individual) [SDNT].

2. ALDANA JUNCA, Jose Tiberio, c/o LATINFARMACOS S.A., Quito, Ecuador; c/o RIONAP S.A., Quito, Ecuador; DOB 13 Jul 1973; Cedula No. 79609622 (Colombia); Passport 79609622 (Colombia) (individual) [SDNT].

3. ALVAREZ GAVIRIA, Jaime Antonio, c/o EXPORT CAFE LTDA., Cali, Colombia; DOB 17 Aug 1947; Cedula No. 10060853 (Colombia) (individual) [SDNT].

4. ALVAREZ RAMOS, Prisiliano Enrique (a.k.a. ALVAREZ RAMOS, Prisciliano), c/o PREFABRICADOS Y AGREGADOS DE COLOMBIA LTDA., Cartagena, Colombia; DOB 20 Jun 1969; Cedula No. 70524763 (Colombia) (individual) [SDNT].

5. AMAYA OROZCO, Luis Alberto, Calle 18N No. 9-46, Cali, Colombia; c/o COMERCIALIZADORA DE CARNES DEL PACIFICO LTDA., Cali, Colombia; DOB 15 Sep 1945; Cedula No. 4882167 (Colombia) (individual) [SDNT].

6. ARIZA OLIVERA, Joaquin, c/o LITOPHARMA, Barranquilla, Colombia; Cedula No. 8721438 (Colombia) (individual) [SDNT].

7. ARLONE FACELLI, Roberto, c/o DISTRIBUIDORA DE DROGAS CONDOR S.A., Bogota, Colombia; DOB 24 Oct 1959; Cedula No. 16632415 (Colombia) (individual) [SDNT].

8. AVENDANO MUNERA, Jairo Ivan, Carrera 52 No. 41-81, Edificio El Polo, Medellin, Colombia; DOB 26 Aug 1960; Cedula No. 71589827 (Colombia) (individual) [SDNT].

9. BARONA DORADO, Fernando, c/o DISMERCOOP, Cali, Colombia; DOB 06 Jun 1963; Cedula No. 16688872 (Colombia) (individual) [SDNT].

10. BENITEZ SANCHEZ, Jose Arturo, c/o AMERICANA DE COSMETICOS S.A., Bogota, Colombia; c/o COSMEPOP, Bogota, Colombia; c/o DISTRIEXPORT S.A., Bogota, Colombia; c/o MAPRI DE COLOMBIA LTDA., Bogota, Colombia; Cedula No. 10276819 (Colombia); Passport 10276819 (Colombia) (individual) [SDNT].

11. BERNAL, Beatriz, c/o VILLARO LTDA., Bogota, Colombia; Cedula No. 65497873 (Colombia) (individual) [SDNT].

12. BLANCO BAHOQUE, Gabino Leon, c/o SU SERVICIO SOCIEDAD LTDA., Barranquilla, Colombia; Cedula No. 72136630 (Colombia) (individual) [SDNT].

13. BOTERO ARISTIZABAL, Maria Emma, c/o EUROMAR CARIBE S.A., Cartagena, Colombia; c/o INVERSIONES EL PROGRESO S.A., Cartagena, Colombia; c/o INVERSIONES LAMARC S.A., Cartagena, Colombia; Calle 7 No. 6-95, Edificio Marlin, Apto. 4A, Cartagena, Colombia; No. 22 del Conjunto Residencial Ciudadela Pasoancho II Etapa Conjunto 2 Urbanizacion Villas III Carrera 81 No. 13B-179, Cali, Colombia; Apto. No. 1003-B, Edificio Torres De La Cincuenta, Calle 9B No. 50-15, Cali, Colombia; Penthouse 802A, Carrera 77 No. 13A-1-29, Cali, Colombia; Carrera 92 No. 162-40, Bogota, Colombia; DOB 24 Sep 1951; POB Sonson, Antioquia, Colombia; Cedula No. 32518408 (Colombia) (individual) [SDNT].

14. CARMONA, Juan Manuel, c/o INVERSIONES ARA LTDA., Cali, Colombia; c/o INVERSIONES RODRIGUEZ ARBELAEZ, Cali, Colombia; c/o INVERSIONES RODRIGUEZ MORENO, Cali, Colombia; DOB 14 Jan 1933; Cedula No. 3524135 (Colombia) (individual) [SDNT].

15. CARRASQUILLA LORA, Jorge Eliecer, c/o CAJA SOLIDARIA, Bogota, Colombia; c/o COPSERVIR LTDA., Bogota, Colombia; Cedula No. 7461027 (Colombia) (individual) [SDNT].

16. CARRILLO QUINTERO, Eugenio, c/o BONOMERCAD S.A., Bogota, Colombia; c/o DECAFARMA S.A., Bogota, Colombia; c/o PATENTES MARCAS Y REGISTROS S.A., Bogota, Colombia; c/o SHARPER S.A., Bogota, Colombia; c/o DISTRIBUIDORA AGROPECUARIA COLOMBIANA S.A., Cali, Colombia; c/o CODISA, Bogota, Colombia; c/o SHARVET S.A., Bogota, Colombia; DOB 30 Nov 1960; Cedula No. 73094061 (Colombia) (individual) [SDNT].

17. CARVAJAL SUAREZ, Luz Mary, c/o DISMERCOOP, Cali, Colombia; DOB 07 Apr 1966; Cedula No. 24626230 (Colombia) (individual) [SDNT].

18. CASTANEDA CHACON, Olga Patricia, c/o ARCA DISTRIBUCIONES LTDA., Bogota, Colombia; c/o COOPERATIVA DE TRABAJO ASOCIADO ACTIVAR, Bogota, Colombia; Cedula No. 51870004 (Colombia) (individual) [SDNT].

19. CASTRO ARIAS, Libardo (a.k.a. ARIAS CASTRO, Libardo), c/o BONOMERCAD S.A., Bogota, Colombia; c/o COMEDICAMENTOS S.A., Bogota, Colombia; c/o DECAFARMA S.A., Bogota, Colombia; c/o GLAJAN S.A., Bogota, Colombia; c/o SHARPER S.A., Bogota, Colombia; c/o FOGENSA S.A., Bogota, Colombia; DOB 13 Oct 1933; Cedula No. 2312291 (Colombia); Passport 2312291 (Colombia) (individual) [SDNT].

20. CUJAR DE FORERO, Claudia, c/o BONOMERCAD S.A., Bogota, Colombia; c/o DISTRIBUIDORA AGROPECUARIA COLOMBIANA S.A., Cali, Colombia; Cedula No. 20198740 (Colombia) (individual) [SDNT].

21. DAZA RIVERA, Pablo Emilio, c/o FARMATODO S.A., Bogota, Colombia; c/o RIONAP COMERCIO Y REPRESENTACIONES S.A., Quito, Ecuador; c/o DISTRIBUIDORA MYRAMIREZ S.A., Bogota, Colombia; c/o DROGAS LA REBAJA, Cali, Colombia; c/o LABORATORIOS KRESSFOR, Bogota, Colombia; c/o BLANCO PHARMA S.A., Bogota, Colombia; c/o COLOR 89.5 FM STEREO, Cali, Colombia; c/o INVERSIONES Y CONSTRUCCIONES ABC S.A., Cali, Colombia; DOB 09 Mar 1947; Cedula No. 4904545 (Colombia) (individual) [SDNT].

22. DEL VASTO CERON, Luis Mario, c/o ADMINISTRADORA DE SERVICIOS VARIOS CALIMA S.A., Cali, Colombia; DOB 26 Jul 1947; Cedula No. 17181655 (Colombia); Passport 17181655 (Colombia) (individual) [SDNT].

23. DELGADO PRIETO, Roberto, c/o COLPHAR S.A., Bogota, Colombia; Cedula No. 13921914 (Colombia); Passport 13921914 (Colombia) (individual) [SDNT].

24. DELGADO, Jorge Armando, c/o COSMEPOP, Bogota, Colombia; c/o DISTRIBUIDORA MYRAMIREZ S.A., Bogota, Colombia; c/o LABORATORIOS BLAIMAR DE COLOMBIA S.A., Bogota, Colombia; c/o COINTERCOS S.A., Bogota, Colombia; c/o COPSERVIR LTDA., Bogota, Colombia; c/o LABORATORIOS BLANCO PHARMA DE COLOMBIA S.A., Bogota, Colombia; c/o FARMATODO S.A., Bogota, Colombia; c/o LABORATORIOS KRESSFOR DE COLOMBIA S.A., Bogota, Colombia; c/o ALFA PHARMA S.A., Bogota, Colombia; DOB 04 Aug 1958; Cedula No. 19354318 (Colombia) (individual) [SDNT].

25. DIAZ MATIZ, Maria Cecilia, c/o LEMOFAR LTDA., Bogota, Colombia; DOB 16 May 1950; Cedula No. 41510904 (Colombia); Passport 41510904 (Colombia) (individual) [SDNT].

26. DUARTE FAJARDO, Maria del Carmen, c/o MAGEN LTDA., Bogota, Colombia; DOB 12 Oct 1975; Cedula No. 63436645 (Colombia); Passport 63436645 (Colombia) (individual) [SDNT].

27. ECHEVERRY TRUJILLO, Oscar Alberto, Avenida 4N No. 17-23 piso 1, Cali, Colombia; Calle 43N No. 4-05, Cali, Colombia; c/o COLOR 89.5 FM STEREO, Cali, Colombia; c/o M.O.C. ECHEVERRY HERMANOS LTDA., Cali, Colombia; DOB 21 Oct 1964; Cedula No. 16272989 (Colombia) (individual) [SDNT].

28. ESTRADA RAMIREZ, Jose Arnoldo, c/o CLINICA ESPECIALIZADA DEL VALLE S.A., Cali, Colombia; c/o HIELO CRISTAL Y REFRIGERACION LTDA., Cali, Colombia; c/o INVERSIONES JAER LTDA., Cali, Colombia; c/o INVERSIONES SAN JOSE LTDA., Cali, Colombia; c/o CONSTRUCTORA CENTRAL DEL VALLE LTDA., Cali, Colombia; Calle 39 No. 1H-31, Cali, Colombia; Carrera 1H No. 39-56, Cali, Colombia; c/o PARQUE INDUSTRIAL LAS DELICIAS LTDA., Cali, Colombia; c/o MARIN ESTRADA Y CIA S. EN C.S., Cali, Colombia; DOB 14 Jul 1947; Cedula No. 16200018 (Colombia) (individual) [SDNT].

29. FERNANDEZ MONTERO, Marco Jose, c/o INVERSIONES EL PROGRESO S.A., Cartagena, Colombia; c/o INVERSIONES LAMARC S.A., Cartagena, Colombia; c/o ARAWAK HOLDING B.V., Amsterdam, Netherlands; c/o AURIGA INTERLEXUS S.L., Marbella, Malaga, Spain; c/o GENERAL DE OBRAS Y ALQUILERES S.A., Marbella, Malaga, Spain; c/o HORMAC PLANNING S.L., Marbella, Malaga, Spain; c/o QUANTICA PROJECT S.L., Marbella, Malaga, Spain; c/o TRACKING INOVATIONS S.L., Marbella, Malaga, Spain; c/o UNDER PAR REAL ESTATE S.L., Marbella, Malaga, Spain; Calle Marques Del Duero 76-3C San Pedro De Alcantara, Marbella, Malaga, Spain; Calle Sierra De Cazorla, Residencial La Cascada, Bloque 1, Bajos 1B, Marbella, Malaga, Spain; Calle Chamberi 7, Montellano, Becerril De La Sierra, Madrid 28490, Spain; DOB 21 Dec 1970; POB Madrid, Spain; Passport AC 018964 (Spain); D.N.I. 07497033-E (Spain) (individual) [SDNT].

30. FLOREZ SARAMA, Jorge Humberto, c/o ADMINISTRADORA DE SERVICIOS VARIOS CALIMA S.A., Cali, Colombia; c/o ASESORIAS DE INGENIERIA EMPRESA UNIPERSONAL, Cali, Colombia; c/o CHAMARTIN S.A., Cali, Colombia; c/o SERVICIOS DE LA SABANA E.U., Bogota, Colombia; Cedula No. 13007449 (Colombia); Passport 13007449 (Colombia) (individual) [SDNT].

31. GARCIA MONTILLA, Edgar Alberto (a.k.a. GARCIA MANTILLA, Edgar Alberto; a.k.a. GARCIA MOGAR, Edgar; a.k.a. GARCIA MONTELLA, Edgar Alberto), c/o REVISTA DEL AMERICA LTDA., Cali, Colombia; c/o LABORATORIOS KRESSFOR DE COLOMBIA S.A., Bogota, Colombia; c/o COMERCIALIZACION Y FINANCIACION DE AUTOMOTORES S.A., Cali, Colombia; DOB 28 Nov 1946; Cedula No. 14936775 (Colombia); Passport AC365457 (Colombia); alt. Passport PE008603 (Colombia); alt. Passport PO564495 (Colombia); alt. Passport AA294885 (Colombia) (individual) [SDNT].

32. GIL RODRIGUEZ, Juan Felipe, c/o AMPARO R. DE GIL Y CIA. S.C.S., Cali, Colombia; c/o DROBLAM S.A., Cali, Colombia; DOB 07 Apr 1975; Cedula No. 94446642 (Colombia); Passport 94446642 (Colombia) (individual) [SDNT].

33. GOMEZ GALINDO, Omaira, Apartado Aereo 38028, Cali, Colombia; Avenida 6N No. 38-90, Cali, Colombia; c/o CONSTRUCTORA GOPEVA LTDA., Cali, Colombia; DOB 12 Dec 1951; Cedula No. 31299825 (Colombia) (individual) [SDNT].

34. GONZALEZ ROBLEDO, Julio Cesar, c/o LABORATORIOS GENERICOS VETERINARIOS, Bogota, Colombia; DOB 09 Feb 1936; Cedula No. 2905977 (Colombia) (individual) [SDNT].

35. GRUESO, Alexei, c/o INCOMMERCE S.A., Cali, Colombia; Cedula No. 16607352 (Colombia); Passport 16607352 (Colombia) (individual) [SDNT].

36. GUERRERO BRAND, Luis Hernando, c/o A G REPRESENTACIONES LTDA., Cali, Colombia; Cedula No. 16656929 (Colombia) (individual) [SDNT].

37. GUTIERREZ ARDILA, Eduardo, c/o EXPORT CAFE LTDA., Cali, Colombia; DOB 08 Aug 1958; Cedula No. 16642433 (Colombia) (individual) [SDNT].

38. HENAO DE SANCHEZ, Hortensia, c/o ALFA PHARMA S.A., Bogota, Colombia; DOB 17 Oct 1917; Cedula No. 29013554 (Colombia) (individual) [SDNT].

39. HENAO LOPEZ, Alberto (a.k.a. HENAO, Alberto Lopez), c/o ALFA PHARMA S.A., Bogota, Colombia; DOB 12 Aug 1913; Cedula No. 2630951 (Colombia) (individual) [SDNT].

40. HENAO VDA. DE BOTERO, Maria Yolanda, c/o ALFA PHARMA S.A., Bogota, Colombia; DOB 21 Jun 1929; Cedula No. 29070489 (Colombia) (individual) [SDNT].

41. HOLGUIN SARRIA, Alvaro, c/o DISTRIBUIDORA DE DROGAS CONDOR LTDA., Bogota, Colombia; c/o DEPOSITO POPULAR DE DROGAS S.A., Cali, Colombia; c/o DERECHO INTEGRAL Y CIA. LTDA., Cali, Colombia; c/o DISTRIBUIDORA MIGIL LTDA., Cali, Colombia; DOB 28 Oct 1946; Cedula No. 14950269 (Colombia) (individual) [SDNT].

42. JARAMILLO FRANCO, Harvy, c/o DISMERCOOP, Cali, Colombia; DOB 10 Aug 1965; Cedula No. 16711189 (Colombia) (individual) [SDNT].

43. LEAL RODRIGUEZ, Jose Guillermo, c/o PENTA PHARMA DE COLOMBIA S.A., Bogota, Colombia; c/o PENTACOOP LTDA., Bogota, Colombia; c/o LABORATORIOS KRESSFOR DE COLOMBIA S.A., Bogota, Colombia; c/o DECAFARMA S.A., Bogota, Colombia; DOB 01 Mar 1932; Cedula No. 89867 (Colombia) (individual) [SDNT].

44. MANJARREZ GRANDE, Jorge (a.k.a. MANJARRES GRANDE, Jorge), c/o GRACADAL S.A., Cali, Colombia; c/o INTERAMERICANA DE CONSTRUCCIONES S.A., Cali, Colombia; c/o SERVIFAR S.A., Cali, Colombia; c/o RADIO UNIDAS F.M. S.A., Cali, Colombia; c/o SONAR F.M. S.A., Cali, Colombia; c/o ADMINISTRADORA DE SERVICIOS VARIOS CALIMA S.A., Cali, Colombia; ASESORIAS DE INGENIERIA EMPRESA UNIPERSONAL, Cali, Colombia; GENERAL DE NEGOCIOS Y ADMINISTRACION LTDA., Cali, Colombia; INVERSIETE S.A., Cali, Colombia; INVERSIONES Y CONSTRUCCIONES COSMOVALLE LTDA., Cali, Colombia; DOB 05 Jul 1959; Cedula No. 16632969 (Colombia); Passport 16632969 (Colombia) (individual) [SDNT].

45. MEFLA MOSQUERA, Aristides, c/o FARMALIDER S.A., Cali, Colombia; Cedula No. 6039981 (Colombia) (individual) [SDNT].

46. MEJIA URIBE, Hernando (a.k.a. URIBE PATINO, Juan Carlos), c/o EUROMAR CARIBE S.A., Cartagena, Colombia; c/o INGENIERIA TECNICA EN COMUNICACIONES LTDA., Cali, Colombia; c/o INVERSIONES LAMARC S.A., Cartagena, Colombia; c/o INVERSIONES EL PROGRESO S.A., Cartagena, Colombia; c/o PREFABRICADOS Y AGREGADOS DE COLOMBIA LTDA., Cartagena, Colombia; c/o SERVICIOS DE CONTROL INTEGRAL DE OBRAS S.L. SIP SUCURSAL CARTAGENA, Cartagena, Colombia; c/o COMERCIALIZADORA INTERNACIONAL ASFALTOS Y AGREGADOS LAS CASCAJERA S.A., Bogota, Colombia; c/o BIENES Y VALORES B Y V S.A., Bogota, Colombia; Calle 7 No. 6-95, Edificio Marlin, Apto. 4A, Cartagena, Colombia; No. 22 del Conjunto Residencial Ciudadela Pasoancho II Etapa Conjunto 2 Urbanizacion Villas III Carrera 81 No. 13B-179, Cali, Colombia; Carrera 11 No. 21-59/53 y 10-64, Cali, Colombia; Carrera 127 No. 10A-10, Cali, Colombia; Calle 11 No. 21-42, Cali, Colombia; Calle 21 No. 10-52, Cali, Colombia; Calle 21 No. 10-55, Cali, Colombia; Calle 22 No. 10-40, Cali, Colombia; Calle 22 No. 10-44, Cali, Colombia; Calle 54 No. 10-B-101, Barranquilla, Colombia; Los Pompones, Corregimiento De Rejoya, Popayan, Cauca, Colombia; DOB 20 Dec 1949; POB Manizalez, Caldas, Colombia; Cedula No. 8308983 (Colombia); alt. Cedula No. 16796652 (Colombia) (individual) [SDNT].

47. MOLINA QUINTAN, Leticia, c/o DISFOGEN LTDA., Bogota, Colombia; Cedula No. 24718126 (Colombia) (individual) [SDNT].

48. MONTANO BERMUDEZ, Libardo, c/o LABORATORIOS GENERICOS VETERINARIOS, Bogota, Colombia; DOB 04 Jul 1942; Cedula No. 17083296 (Colombia) (individual) [SDNT].

49. MORA ROMERO, Gloria Isabel, c/o FARFALLA INVESTMENT S.A., Panama City, Panama; c/o PREMIER SALES S.A., Panama; Cedula No. 4-192-157 (Panama); alt. Cedula No. No. 4-194-157 (Panama) (individual) [SDNT].

50. MUNOZ RODRIGUEZ, Juan Carlos, c/o BLANCO PHARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o LABORATORIOS BLAIMAR DE COLOMBIA S.A., Bogota, Colombia; c/o LABORATORIOS KRESSFOR DE COLOMBIA S.A., Bogota, Colombia; c/o GRACADAL S.A., Cali, Colombia; c/o INVERSIONES Y CONSTRUCCIONES ABC S.A., Cali, Colombia; c/o CREDIREBAJA S.A., Cali, Colombia; c/o ASESORIAS ECONOMICAS MUNOZ SANTACOLOMA E.U., Cali, Colombia; c/o ASPOIR DEL PACIFICO Y CIA. LTDA., Cali, Colombia; c/o COMERCIALIZADORA INTERTEL S.A., Cali, Colombia; c/o CONTACTEL COMUNICACIONES S.A., Cali, Colombia; c/o DISTRIBUIDORA SANAR DE COLOMBIA S.A., Cali, Colombia; c/o REPRESENTACIONES Y DISTRIBUCIONES HUERTAS Y ASOCIADOS S.A., Bogota, Colombia; c/o FUNDASER, Cali, Colombia; c/o LATINFAMRACOS S.A., Quito, Ecuador; DOB 25 Sep 1964; Cedula No. 16703148 (Colombia); Passport 16703148 (Colombia) (individual) [SDNT].

51. OROZCO LOPEZ, Orlando, c/o ASESORIAS ECONOMICAS MUNOZ SANTACOLOMA E.U., Cali, Colombia; c/o CHAMARTIN S.A., Cali, Colombia; Cedula No. 16736406 (Colombia); Passport 16736406 (Colombia) (individual) [SDNT].

52. PARRA MILLARES, Sixto, c/o INVERSIONES EL PROGRESO S.A., Cartagena, Colombia; c/o INVERSIONES LAMARC S.A., Cartagena, Colombia; c/o SERVICIOS DE CONTROL INTEGRAL DE OBRAS S.L. SIP SUCURSAL CARTAGENA, Cartagena, Colombia; Cedula No. 73190399 (Colombia) (individual) [SDNT].

53. PAZ MAHECHA, Gonzalo Rodrigo, Carrera 4 No. 11-45 of. 802, Cali, Colombia; Carrera 4 No. 11-45 of. 809, Cali, Colombia; Transversal 98 No. 28A-46, Cali, Colombia; c/o COLOR 89.5 FM STEREO, Cali, Colombia; Calle 13A No. 66B-60 apt. 102A, Cali, Colombia; Calle 102 No. 48A-08, Bogota, Colombia; Carrera 4 No. 11-45 apt. 621, Cali, Colombia; Carrera 4 No. 11-45 apt. 624, Cali, Colombia; Calle 13 No. 4-25 piso 6, Cali, Colombia; Calle 13A No. 66B-60 apt. 902A, Cali, Colombia; Calle 13A No. 66B-60 apt. 101A, Cali, Colombia; DOB 28 Sep 1957; Cedula No. 16590653 (Colombia) (individual) [SDNT].

54. PELAEZ DE HENAO, Teresa, c/o ALFA PHARMA S.A., Bogota, Colombia; DOB 11 Jan 1928; Cedula No. 29013555 (Colombia) (individual) [SDNT].

55. PEREZ GARCIA, Carlos, c/o ASESORIAS COSMOS LTDA., Cali, Colombia; Cedula No. 14920419 (Colombia) (individual) [SDNT].

56. PEREZ VARELA, Jaime Diego, c/o CONSTRUCTORA GOPEVA LTDA., Cali, Colombia; Avenida Ciudad Jardin No. 27, Cali, Colombia; DOB 28 Feb 1933; Cedula No. 2695666 (Colombia) (individual) [SDNT].

57. PINEROS LEON, Miguel Esteban, c/o COPSERVIR LTDA., Bogota, Colombia; Carrera 50 No. 173-12, Bogota, Colombia; Cedula No. 468712 (Colombia) (individual) [SDNT].

58. RAMIREZ M., Oscar, c/o VALORES MOBILIARIOS DE OCCIDENTE S.A., Bogota, Colombia; c/o INVERSIONES ARA LTDA., Cali, Colombia; c/o RIONAP COMERCIO Y REPRESENTACIONES S.A., Quito, Ecuador (individual) [SDNT].

59. RAMIREZ NUNEZ, James Alberto, c/o ANDINA DE CONSTRUCCIONES S.A., Cali, Colombia; c/o GRACADAL S.A., Cali, Colombia; c/o INVERSIONES Y CONSTRUCCIONES COSMOVALLE LTDA., Cali, Colombia; c/o DISMERCOOP, Cali, Colombia; c/o INTERAMERICA DE CONSTRUCCIONES S.A., Cali, Colombia; c/o INVERSIONES MONDRAGON Y CIA. S.C.S., Cali, Colombia; c/o SERVICIOS FARMACEUTICOS SERVIFAR S.A., Cali, Colombia; Carrera 5 No. 24-63, Cali, Colombia; DOB 21 Apr 1962; Cedula No. 16691796 (Colombia) (individual) [SDNT].

60. RAMOS RODRIGUEZ, Laureano, c/o INVERSIONES EL PROGRESO S.A., Cartagena, Colombia; c/o INVERSIONES LAMARC S.A., Cartagena, Colombia; c/o SERVICIOS DE CONTROL INTEGRAL DE OBRAS S.L. SIP SUCURSAL CARTAGENA, Cartagena, Colombia; c/o SERVICIOS DE CONTROL INTEGRAL DE OBRAS S.L., Campanillas, Malaga, Spain; c/o SERVICIOS DE CONTROL INTEGRAL FACILITIES MANAGEMENT S.L., Campanillas, Malaga, Spain; c/o SIP CONSULTANCY SERVICES S.L., Campanillas, Malaga, Spain; c/o PATRIMONIO DE GESTION Y ADMINISTRACION SIP S.L., Fuengirola, Malaga, Spain; c/o LAUREANO RAMOS GABINETE TECNICO S.L., Fuengirola, Malaga, Spain; c/o GESTION DE ADMINISTRACIONES SIP S.L., Fuengirola, Malaga, Spain; c/o COLOMBIA REAL ESTATE DEVELOPMENT B.V., Amsterdam, Netherlands; Calle Marie 4 1-D9, Campanillas, Malaga, Spain; DOB 08 Nov 1963; POB Fuengirola, Malaga, Spain; Passport AD 320707 (Spain); alt. Passport BA 848697 (Spain); D.N.I. 27377459-F (Spain) (individual) [SDNT].

61. REINA MOLINA, Miguel Sigifredo, c/o DISTRIBUIDORA DEL VALLE E.U., Bogota, Colombia; Cedula No. 8401802 (Colombia); Passport 8401802 (Colombia) (individual) [SDNT].

62. RESTREPO VILLEGAS, Camilio, c/o PLASTICOS CONDOR LTDA., Cali, Colombia; c/o FLEXOEMPAQUES LTDA., Cali, Colombia; Calle 116 No. 12-49, Bogota, Colombia; DOB 27 Dec 1938; Cedula No. 6051150 (Colombia) (individual) [SDNT].

63. RODRIGUEZ MONDRAGON, Humberto, c/o MAXITIENDAS TODO EN UNO, Cali, Colombia; c/o PENTA PHARMA DE COLOMBIA S.A., Bogota, Colombia; c/o RADIO UNIDAS FM S.A., Cali, Colombia; c/o RIONAP COMERCIO Y REPRESENTACIONES S.A., Quito, Ecuador; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o LABORATORIOS BLAIMAR DE COLOMBIA S.A., Bogota, Colombia; c/o LABORATORIOS KRESSFOR DE COLOMBIA S.A., Bogota, Colombia; c/o GRACADAL S.A., Cali, Colombia; c/o INTERAMERICA DE CONSTRUCCIONES S.A., Cali, Colombia; c/o ANDINA DE CONSTRUCCIONES S.A., Cali, Colombia; c/o BLANCO PHARMA S.A., Bogota, Colombia; c/o DEPOSITO POPULAR DE DROGAS S.A., Cali, Colombia; c/o FARMATODO S.A., Bogota, Colombia; c/o MARIELA DE RODRIGUEZ Y CIA. S. EN C., Cali, Colombia; c/o CLAUDIA PILAR RODRIGUEZ Y CIA. S.C.S., Bogota, Colombia; c/o D'CACHE S.A., Cali, Colombia; c/o INDUSTRIAL DE GESTION DE NEGOCIOS E.U., Cali, Colombia; c/o INVERSIONES MONDRAGON Y CIA. S.C.S., Cali, Colombia; c/o CREDIREBAJA S.A., Cali, Colombia; c/o ADMINISTRADORA DE SERVICIOS VARIOS CALIMA S.A., Cali, Colombia; c/o ASESORIAS PROFESIONALES ESPECIALIZADAS EN NEGOCIOS E.U., Cali, Colombia; c/o BONOMERCAD S.A., Bogota, Colombia; c/o CODISA, Bogota, Colombia; c/o COMERCIALIZADORA INTERTEL S.A., Cali, Colombia; c/o COPSERVIR LTDA., Bogota, Colombia; c/o COSMEPOP, Bogota, Colombia; c/o DECAFARMA S.A., Bogota, Colombia; c/o DROCARD S.A., Bogota, Colombia; c/o FARMACOOP, Bogota, Colombia; c/o DISTRIBUIDORA SANAR DE COLOMBIA S.A., Cali, Colombia; c/o FOGENSA S.A., Bogota, Colombia; c/o PROSALUD Y BIENESTAR S.A., Cali, Colombia; c/o REPRESENTACIONES Y DISTRIBUCIONES HUERTAS Y ASOCIADOS S.A., Bogota, Colombia; c/o VALORES CORPORATIVOS ESPANOLES S.L., Madrid, Spain; c/o FUNDASER, Cali, Colombia; c/o LATINFAMRACOS S.A., Quito, Ecuador; c/o ALERO S.A., Cali, Colombia; c/o MEGAPLAST S.A., Palmira, Valle, Colombia; DOB 21 Jun 1963; Cedula No. 16688683 (Colombia); Passport AD387757 (Colombia); alt. Passport 16688683 (Colombia) (individual) [SDNT].

64. RODRIGUEZ MONDRAGON, Jaime; DOB 30 Mar 1960; Cedula No. 16637592 (Colombia); Passport AE426347 (Colombia); alt. Passport 16637592 (Colombia); N.I.E. x2641093-A (Spain) (individual) [SDNT] (Linked To: PLASTICOS CONDOR LTDA.; Linked To: LABORATORIOS KRESSFOR DE COLOMBIA S.A.; Linked To: FLEXOEMPAQUES LTDA.; Linked To: LABORATORIOS BLAIMAR DE COLOMBIA S.A.; Linked To: PENTA PHARMA DE COLOMBIA S.A.; Linked To: RIONAP COMERCIO Y REPRESENTACIONES S.A.; Linked To: DISTRIBUIDORA DE DROGAS CONDOR LTDA.; Linked To: DISTRIBUIDORA DE DROGAS LA REBAJA S.A.; Linked To: DEPOSITO POPULAR DE DROGAS S.A.; Linked To: D'CACHE S.A.; Linked To: ASESORIAS DE INGENIERIA EMPRESA UNIPERSONAL; Linked To: BONOMERCAD S.A.; Linked To: DECAFARMA S.A.; Linked To: DROCARD S.A.; Linked To: JAROMO INVERSIONES S.L.; Linked To: PROSPECTIVA EMPRESA UNIPERSONAL; Linked To: REPRESENTACIONES Y DISTRIBUCIONES HUERTAS Y ASOCIADOS S.A.; Linked To: SERVICIOS DE LA SABANA E.U.; Linked To: FUNDASER; Linked To: ALERO S.A.; Linked To: DISMERCOOP; Linked To: DISTRIBUIDORA MIGIL LTDA.; Linked To: LATINOAMERICANA DE FARMACOS S.A.).

65. RODRIGUEZ MONDRAGON, Maria Alexandra (a.k.a. RODRIGUEZ MONDRAGON, Alexandra); DOB 30 May 1969; alt. DOB 05 May 1969; Cedula No. 66810048 (Colombia); Passport AD359106 (Colombia); alt. Passport 66810048 (Colombia); N.I.E. X2561613-B (Spain) (individual) [SDNT] (Linked To: LABORATORIOS BLANCO PHARMA S.A.; Linked To: DEPOSITO POPULAR DE DROGAS S.A.; Linked To: DISTRIBUIDORA MIGIL LTDA.; Linked To: PENTA PHARMA DE COLOMBIA S.A.; Linked To: TOBOGON; Linked To: DISTRIBUIDORA DE DROGAS CONDOR LTDA.; Linked To: DISTRIBUIDORA DE DROGAS LA REBAJA S.A.; Linked To: LABORATORIOS BLAIMAR DE COLOMBIA S.A.; Linked To: DISMERCOOP; Linked To: INTERAMERICANA DE CONSTRUCCIONES S.A.; Linked To: D'CACHE S.A.; Linked To: MARIELA MONDRAGON DE R. Y CIA. S. EN C.; Linked To: DROCARD S.A.; Linked To: INVERSIONES INMOBILIARIAS VALERIA S.L.; Linked To: SISTEMAS Y SERVICIOS TECNICOS EMPRESA UNIPERSONAL; Linked To: FUNDASER; Linked To: ALERO S.A.).

66. RODRIGUEZ PINZON, Manuel, c/o LABORATORIOS KRESSFOR, Bogota, Colombia; c/o ALFA PHARMA S.A., Cali, Colombia; DOB 12 Mar 1947; Cedula No. 17171485 (Colombia) (individual) [SDNT].

67. ROJAS GOMEZ, Miryam Yaneth, c/o VALORCORP S.A., Bogota, Colombia; Cedula No. 23323121 (Colombia) (individual) [SDNT].

68. ROJAS ORTIS, Rosa, c/o ALFA PHARMA S.A., Cali, Colombia; DOB 09 Nov 1941; Cedula No. 26577444 (Colombia) (individual) [SDNT].

69. RUIZ HERNANDEZ, Gregorio Rafael, c/o COMERCIALIZADORA OROBANCA, Cali, Colombia; DOB 20 May 1963; Cedula No. 16823501 (Colombia) (individual) [SDNT].

70. SANCHEZ OLAYA, Martha, c/o LABORATORIOS PROFARMA LTDA., Bogota, Colombia; DOB 20 May 1963; Cedula No. 65692953 (Colombia); Passport 65692953 (Colombia) (individual) [SDNT].

71. SARRIA HOLGUIN, Ramiro Hernan (a.k.a. SARRIA HOLGUIN, Robert), Carrera 100 No. 11-60 of. 603, AA 20903, Cali, Colombia; Avenida 6N No. 23D-16 of. L301, Cali, Colombia; c/o INVERSIONES RODRIGUEZ MORENO, Cali, Colombia; c/o INVERSIONES ARA LTDA., Cali, Colombia; c/o INVERSIONES MIGUEL RODRIGUEZ E HIJO, Cali, Colombia; c/o INVERSIONES RODRIGUEZ ARBELAEZ, Cali, Colombia; c/o REPARACIONES Y CONSTRUCCIONES LTDA., Cali, Colombia; c/o VALORES MOBILIARIOS DE OCCIDENTE S.A., Cali, Colombia; Cedula No. 6078583 (Colombia) (individual) [SDNT].

72. SERRANO PONCE, Jose Delio, c/o DISMERCOOP, Cali, Colombia; DOB 13 Apr 1965; Cedula No. 16711205 (Colombia) (individual) [SDNT].

73. TREJOS MARQUEZ, Arnulfo, Carrera 4 No. 9-17 of. 308, AA 38028, Cali, Colombia; c/o CONSTRUCTORA TREMI LTDA., Cali, Colombia; DOB 05 Sep 1947; Cedula No. 6090595 (Colombia) (individual) [SDNT].

74. TRIANA TEJADA, Luis Humberto, c/o COMERCIALIZADORA DE CARNES DEL PACIFICO LTDA., Cali, Colombia; DOB 27 Jul 1943; Cedula No. 4916206 (Colombia) (individual) [SDNT].

75. VALENCIA GALLEGO, Jesus Antonio, c/o DISMERCOOP, Cali, Colombia; DOB 09 Sep 1957; Cedula No. 16447249 (Colombia) (individual) [SDNT].

76. VERTEL ANAYA, Clara Julia, c/o PREFABRICADOS Y AGREGADOS DE COLOMBIA LTDA., Cartagena, Colombia; DOB 21 Mar 1969; Cedula No. 42652411 (Colombia) (individual) [SDNT].

77. VICTORIA, Mercedes, c/o COLOR 89.5 FM STEREO, Cali, Colombia; c/o INVERSIONES GEELE LTDA., Bogota, Colombia; c/o COMPAX LTDA., Cali, Colombia; c/o LABORATORIOS KRESSFOR, Bogota, Colombia (individual) [SDNT].

78. YEPES LOPEZ, Maria Emma, c/o MAPRI DE COLOMBIA LTDA., Bogota, Colombia; Cedula No. 25015128 (Colombia); Passport 25015128 (Colombia) (individual) [SDNT].

Entities

1. 2000 DOSE E.U. (a.k.a. DOMA E M), Calle 31 No. 1-34, Cali, Colombia; NIT #805015749-3 (Colombia) [SDNT].

2. 2000-DODGE S.L., Calle Gran Via 80, Madrid, Madrid, Spain; C.I.F. B83149955 (Spain) [SDNT].

3. ACTIVAR (a.k.a. COOPERATIVA DE TRABAJO ASOCIADO ACTIVAR), Calle 22B No. 56-63, Bogota, Colombia; Calle 44 No. 17-44, Bogota, Colombia; Carrera 6 No. 11-43 of. 505, Cali, Colombia; Carrera 23 No. 37-39 of. 202, Bogota, Colombia; NIT #830099918-2 (Colombia) [SDNT].

4. ADMACOOP (a.k.a. COOPERATIVA MULTIACTIVA DE ADMINISTRACION Y MANEJO ADMACOOP), Calle 12B No. 28-58, Bogota, Colombia; Carrera 28A No. 14-29, Bogota, Colombia; NIT #830030933-6 (Colombia) [SDNT].

5. ADMINISTRADORA DE SERVICIOS VARIOS CALIMA S.A., Calle 10 No. 4-47, piso 18, Cali, Colombia; Carrera 29A No. 9B-47, Cali, Colombia; NIT #805007874-2 (Colombia) [SDNT].

6. AGRICOLA HUMYAMI LTDA., Apartado Aereo 30352, Cali, Colombia [SDNT].

7. ALERO S.A., Carrera 7 No. 34-341 Bodega 3, Cali, Colombia; NIT #800239872-5 (Colombia) [SDNT].

8. ALFA PHARMA S.A., Diagonal 17 No. 28A-80, Bogota, Colombia [SDNT].

9. AMERICANA DE COSMETICOS S.A., Calle 12B No. 27-39, Bogota, Colombia; Calle 12B No. 27-40, Int. 4 of., Bogota, Colombia; Carrera 12 No. 71-53 of. 502, Bogota, Colombia; Carrera 28 No. 11-65 of. 707, Bogota, Colombia; Carrera 70 No. 54-30, Bogota, Colombia; NIT #830028750-9 (Colombia) [SDNT].

10. AMPARO RODRIGUEZ DE GIL Y CIA. S. EN C., Avenida 4N No. 5N-20, Cali, Colombia [SDNT].

11. ANDINA DE CONSTRUCCIONES S.A., Cali, Colombia [SDNT].

12. AQUILEA S.A., Carrera 21 No. 13B-21, Cali, Colombia; Carrera 21 No. 13B-33, Cali, Colombia; Carrera 23 No. 12-41, Cali, Colombia; NIT #900061351-6 (Colombia) [SDNT].

13. ARAWAK HOLDING B.V., Locatellikade 1 Parnassustrn, Amsterdam 1076 AZ, Netherlands; P.O. Box 87459, Amsterdam 1080 JL, Netherlands; Tax ID No. Haarlem 34288894 (Netherlands) [SDNT].

14. ARCA DISTRIBUCIONES LTDA., Carrera 23 No. 37-39 of. 202, Bogota, Colombia; NIT #830131785-6 (Colombia) [SDNT].

15. ASESORIAS COSMOS LTDA., Carrera 40 No. 6-50 apt. 13-01, Cali, Colombia [SDNT].

16. ASESORIAS DE INGENIERIA EMPRESA UNIPERSONAL (a.k.a. ASING E.U.), Calle 29 Norte No. 6N-43, Cali, Colombia; NIT #805005185-7 (Colombia) [SDNT].

17. ASESORIAS ECONOMICAS MUNOZ SANTACOLOMA E.U. (a.k.a. ASEMS E.U.), Calle 18 No. 106-98 of. 207, Cali, Colombia; NIT #805012381-3 (Colombia) [SDNT].

18. ASESORIAS PROFESIONALES ESPECIALIZADAS EN NEGOCIOS E.U. (a.k.a. ASPEN E.U.), Calle 9 No. 46-69, Cali, Colombia; NIT #805020437-0 (Colombia) [SDNT].

19. ASH TRADING, INC., 14420 NW 16TH St., Pembroke Pines, FL 33028; US FEIN 65-1128351; Business Registration Document #P01000078571 (United States) [SDNT].

20. ASISTENCIA PROFESIONAL ESPECIALIZADA EN COLOMBIA LIMITADA (a.k.a. ASPRECOL LIMITADA), Avenida 11 Norte No. 7N-201 of. 202, Edificio Aleph, Cali, Colombia; NIT #805021375-7 (Colombia) [SDNT].

21. ASPOIR DEL PACIFICO Y CIA. LTDA., Cali, Colombia [SDNT].

22. AURIGA INTERLEXUS S.L., Calle Marques Del Duero, 76 (PLT 3C), San Pedro De Alcantara, Marbella, Malaga 29670, Spain; C.I.F. B-64252703 (Spain) [SDNT].

23. BIENES Y VALORES B Y V S.A. (a.k.a. B Y V S.A.), Calle 100 No. 8A-49, Trr. B, Oficina 505, Bogota, Colombia; NIT #900058166-9 (Colombia) [SDNT].

24. BONOMERCAD S.A. (f.k.a. DECACOOP S.A.), Transversal 29 No. 39-92, Bogota, Colombia; NIT #830018919-3 (Colombia) [SDNT].

25. C Y S MEDIOS E.U., Calle 18 No. 106-98 of. 305, Cali, Colombia; NIT #805015105-0 (Colombia) [SDNT].

26. CAFE ANDINO S.L., Calla Cochabamba 2, Madrid, Madrid, Spain; C.I.F. B81891244 (Spain) [SDNT].

27. CAJA SOLIDARIA (a.k.a. COOPERATIVA DE AHORRO Y CREDITO DE COLOMBIA; a.k.a. COOPERATIVA MULTIACTIVA DE COMERCIALIZACION Y SERVICIOS), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT #830033942-6 (Colombia) [SDNT].

28. CHAMARTIN S.A., Calle 10 No. 4-47, piso 18, Cali, Colombia; NIT #805024137-4 (Colombia) [SDNT].

29. CLAUDIA PILAR RODRIGUEZ Y CIA. S.C.S., Calle 17A No. 28A-43, Bogota, Colombia; NIT #830007201-7 (Colombia) [SDNT].

30. CLINICA ESPECIALIZADA DEL VALLE S.A. (a.k.a. C.E.V. S.A.), Apartado Aereo 32412, Cali, Colombia; Carrera 46 No. 9C-85, Cali, Colombia; Carrera 40 No. 6-50, Of. 1501, Cali, Colombia; Calle 10 No. 44A-26, Cali, Colombia; NIT #800134099-6 (Colombia) [SDNT].

31. CODISA (a.k.a. COOPERATIVA MULTIACTIVA DE DISTRIBUCION Y SERVICIOS ADMINISTRATIVOS), Calle 17A No. 28A-43, Bogota, Colombia; Calle 23 No. 19-75, Bogota, Colombia; NIT #860524476-1 (Colombia) [SDNT].

32. COINTERCOS S.A. (f.k.a. BLAIMAR; a.k.a. CIA. INTERAMERICANA DE COSMETICOS S.A.; f.k.a. LABORATORIOS BLAIMAR DE COLOMBIA S.A.), Calle 12B No. 27-39, Bogota, Colombia; Apartado Aereo 33248, Bogota, Colombia; NIT #860511578-8 (Colombia) [SDNT].

33. COLFARMA PERU S.A., Av. Los Plateros 145 piso 2, Urb. El Artesano Ate, Lima, Peru; RUC #2033645155 (Peru) [SDNT].

34. COLIMEX LTDA., Calle 29 Norte No. 6N-43, Cali, Colombia; NIT #800256902-1 (Colombia) [SDNT].

35. COLOMBIA REAL ESTATE DEVELOPMENT B.V., Locatellikade 1 Parnassustrn, Amsterdam 1076 AZ, Netherlands; P.O. Box 87459, Amsterdam 1080 JL, Netherlands; Tax ID No. Haarlem 34288890 (Netherlands) [SDNT].

36. COLOR 89.5 FM STEREO, Calle 15N No. 6N-34 piso 15, Edificio Alcazar, Cali, Colombia; Calle 19N No. 2N-29, Cali, Colombia [SDNT].

37. COMEDICAMENTOS S.A., Transversal 29 No. 39-92, Bogota, Colombia; NIT #830030803-7 (Colombia) [SDNT].

38. COMERCIALIZADORA DE CARNES DEL PACIFICO LTDA., Calle 25 No. 8-54, Cali, Colombia [SDNT].

39. COMERCIALIZADORA DE LINEAS PHARMACEUTICAS S.A. (a.k.a. COLPHAR S.A.), Calle 39 Bis A No. 27-16, Bogota, Colombia; Calle 94A No. 13-91 of. 402, Bogota, Colombia; NIT #830074552-2 (Colombia) [SDNT].

40. COMERCIALIZADORA DE PRODUCTOS FARMACEUTICOS LTDA., Manzana 48 Casa 12 Etapa 2 Simon Bolivar, Ibague, Colombia; NIT #809010102-0 (Colombia) [SDNT].

41. COMERCIALIZADORA DIGLO LTDA., Calle 23 No. 19-75, Bogota, Colombia; NIT #800789578-3 (Colombia) [SDNT].

42. COMERCIALIZADORA INTERNACIONAL ASFALTOS Y AGREGADOS LAS CASCAJERA S.A. (a.k.a. A Y A LA CASCAJERA S.A.), Calle 100 No. 8A-49, Trr. B, Oficina 505, Bogota, Colombia; NIT #900155202-1 (Colombia) [SDNT].

43. COMERCIALIZADORA INTERTEL S.A., Calle 18 No. 106-98 of. 207, 302, 303, Cali, Colombia; Calle 19 No. 9-50 of. 1501, Cali, Colombia; Carrera 42 No. 9D-49, Cali, Colombia; NIT #805015152-7 (Colombia) [SDNT].

44. COMERCIALIZADORA OROBANCA (a.k.a. SOCIR S.A.; a.k.a. SOUCIR S.A.), Calle 36A No. 3GN-07 of. 302, Edificio El Parque, Cali, Colombia; Calle 22N No. 5A-75 of. 702, Edificio Via Veneto, Cali, Colombia [SDNT].

45. COMTECO LTDA. (a.k.a. COMUNICACIONES TECNICAS DE COLOMBIA LIMITADA), Calle 44 Norte No. 2BN-08, Cali, Colombia; Calle 12N No. 9N-58, Cali, Colombia; NIT #800113514-1 (Colombia) [SDNT].

46. COMUDROGAS LTDA. (a.k.a. COOPERATIVA MULTIACTIVA DE DROGUISTAS LTDA.; a.k.a. COOPERATIVA MULTISERVICIOS DE DROGUISTAS LTDA.), Calle 8 No. 31-03, Cali, Colombia; Calle 28 No. 22-25/27/39, Bucaramanga, Colombia; Carrera 49B No. 75-63 Local 2, Barranquilla, Colombia; NIT #804001143-6 (Colombia) [SDNT].

47. COMUNICACION VISUAL LTDA. (a.k.a. COMVIS LTDA.), Calle 11 No. 19-44, Cali, Colombia [SDNT].

48. CONSTRUCCIONES AVENDANO GUTIERREZ Y CIA. LTDA. (a.k.a. CONAGE LTDA.), Carrera 71 No. 57-07, Bogota, Colombia; NIT #800211560-0 (Colombia) [SDNT].

49. CONSTRUCCIONES COLOMBO-ANDINAS LTDA., Carrera 8 No. 16-79 of. 504, Bogota, Colombia; Calle 29 No. 36-61, Bogota, Colombia; NIT #860505252-8 (Colombia) [SDNT].

50. CONSTRUCTORA CENTRAL DEL VALLE LTDA. (a.k.a. C.C.V. LTDA.), Calle 10 No. 44A-26, Cali, Colombia; NIT #800144098-1 (Colombia) [SDNT].

51. CONSTRUCTORA GOPEVA LTDA., Avenida 3A No. 51-15, Cali, Colombia [SDNT].

52. CONSTRUCTORA TREMI LTDA., Carrera 1A Oeste No. 68-75, Cali, Colombia [SDNT].

53. CONSULTORIA SANTAFE E.U., Carrera 13A No. 89-38 of. 713, Bogota, Colombia; NIT #830043033-9 (Colombia) [SDNT].

54. CONTACTEL COMUNICACIONES S.A., Calle 5 No. 46-83 local 218, Cali, Colombia; Calle 18 No. 106-98 of. 302, 303, Cali, Colombia; NIT #805020429-1 (Colombia) [SDNT].

55. COOMULCOSTA (a.k.a. COOPERATIVA MULTIACTIVA DE LA COSTA COOMULCOSTA LTDA.), Carrera 14 No. 35B Esquina, Barranquilla, Colombia; Carrera 48 No. 76-49, Barranquilla, Colombia; Via 40 No. 71-197 Bodega 504, Barranquilla, Colombia; NIT #802006273-0 (Colombia) [SDNT].

56. COOPCREAR (a.k.a. COOPERATIVA DE TRABAJO ASOCIADO DE COLOMBIA), Avenida 13 No. 78-54, Cali, Colombia; Calle 13 No. 78-54, Cali, Colombia; Transversal 29 No. 35A-29, Bogota, Colombia; NIT #830066040-1 (Colombia) [SDNT].

57. COOPERATIVA MERCANTIL COLOMBIANA COOMERCOL (a.k.a. COOMERCOL), Diagonal 24 Transv. 11-99, Cali, Colombia; Calle 8 No. 31-11 Local 2, Cali, Colombia; Pereira, Colombia; NIT #805010372-8 (Colombia) [SDNT].

58. COOPERATIVA MERCANTIL DEL SUR LTDA. (a.k.a. COOMERSUR; a.k.a. COOPMERSUR), Carrera 43 No. 16A-19 La Colina, Pasto, Colombia; NIT #814002508-1 (Colombia) [SDNT].

59. COOPERATIVA MULTIACTIVA DE COLOMBIA FOMENTAMOS (a.k.a. FOMENTAMOS), Transversal 29 No. 35A-29, Bogota, Colombia; NIT #830060914-4 (Colombia) [SDNT].

60. COOPERATIVA MULTIACTIVA DE COMERC. DROGUISTA Y FARMACEUTICA DROFARCO (a.k.a. DROFARCO), Calle 110 No. 6-336, Barranquilla, Colombia; Metroparque Bodega Mz. 3, Barranquilla, Colombia; Via Circunvalar, Bodega M-A-3, Barranquilla, Colombia; NIT #802012877-3 (Colombia) [SDNT].

61. COOPERATIVA MULTIACTIVA DE DISTRIBUCION FARMAVISION LTDA. (a.k.a. FARMAVISION LTDA.), Carrera 24 No. 4-19, Bogota, Colombia; NIT #830037372-6 (Colombia) [SDNT].

62. COOPERATIVA MULTIACTIVA DISTRIBUIDORA DE SANTANDER COOPDISAN (a.k.a. COOPDISAN), Calle 45 No. 9 Occ-04, Bucaramanga, Colombia; Calle 52 No. 31-148 of. 201, Bucaramanga, Colombia; Calle 52 No. 31-148, Bucaramanga, Colombia; Carrera 27 No. 65-60 La Victoria, Bucaramanga, Colombia; Carrera 33 No. 108-49, Floridablanca, Colombia; NIT #804005384-2 (Colombia) [SDNT].

63. COOPIFARMA (a.k.a. COOPERATIVA MULTIACTIVA DE COMERCIALIZACION Y SERVICIOS DE COLOMBIA), Calle 54 No. 22-50, Bucaramanga, Colombia; Carrera 13A No. 28-38 of. 215, Bogota, Colombia; Carrera 27 No. 47A-06, Bogota, Colombia; NIT #830071338-9 (Colombia) [SDNT].

64. COPSERVIR LTDA. (a.k.a. COOPERATIVA MULTIACTIVA DE EMPLEADOS DE DISTRIBUIDORES DE DROGAS COPSERVIR LTDA.; f.k.a. DISTRIBUIDORA DE DROGAS LA REBAJA PRINCIPAL S.A.; f.k.a. DISTRIBUIDORA DE DROGAS LA REBAJA S.A.; f.k.a. DROGAS LA REBAJA), Calle 4 No. 22-24, Bogota, Colombia; Carrera 66A No. 53-47 piso 3, Bogota, Colombia; Calle 18 No. 121-130 Avenida Canasgordas Pance, Cali, Colombia; Calle 10 No. 4-47 piso 19, Cali, Colombia; Calle 14 No. 6-66, Cali, Colombia; Carrera 7 No. 13-132 piso 4, Cali, Colombia; Carrera 7A No. 14-25 piso 2, Cali, Colombia; Carrera 10 No. 11-71, Cali, Colombia; Carrera 99 No. 46A-10 Bdg 6 y 8, Bogota, Colombia; NIT #830011670-3 (Colombia) [SDNT].

65. COSMEPOP (f.k.a. BLAIMAR; f.k.a. CIA. INTERAMERICANA DE COSMETICOS S.A.; f.k.a. COINTERCOS S.A.; a.k.a. COOPERATIVA DE COSMETICOS Y POPULARES COSMEPOP; f.k.a. LABORATORIOS BLAIMAR DE COLOMBIA S.A.; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; Calle 12A No. 27-72, Bogota, Colombia; NIT #800251322-5 (Colombia) [SDNT].

66. CPV SISTEMAS GRAFICOS S.L., Rodriguez San Pedro 2, 28015 Madrid, Madrid, Spain; C.I.F. B82201039 (Spain) [SDNT].

67. CRASESORIAS E.U., Avenida 11 Norte No. 7N-201, Cali, Colombia; NIT #805016474-8 (Colombia) [SDNT].

68. CREDIREBAJA S.A, Calle 16 No. 100-88, Cali, Colombia; Calle 19 No. 2-29 of. 3001, Cali, Colombia; NIT #805001030-6 (Colombia) [SDNT].

69. D'CACHE S.A., Calle 25N No. 3AN-39, Cali, Colombia; NIT #800149284-8 (Colombia) [SDNT].

70. DECAFARMA S.A., Transversal 29 No. 39-92, Bogota, Colombia; NIT #800241240-7 (Colombia) [SDNT].

71. DEPOSITO POPULAR DE DROGAS S.A., Carrera 6 No. 24-77, Cali, Colombia [SDNT].

72. DERECHO INTEGRAL Y CIA. LTDA., Calle 22N No. 5A-75 piso 5, Cali, Colombia [SDNT].

73. DIRECCION COMERCIAL Y MARKETING CONSULTORIA EMPRESA UNIPERSONAL (a.k.a. DCM. CONSULTORIA E.U.), Calle 12B No. 27-39, Bogota, Colombia; Transversal 4 No. 110A-08, Bogota, Colombia; NIT #800934781-4 (Colombia) [SDNT].

74. DISMERCOOP (a.k.a. COOPERATIVA MULTIACTIVA DE EMPLEADOS DE SUPERMERCADOS Y AFINES; f.k.a. DISTRIBUIDORA MIGIL BOGOTA LTDA.; f.k.a. DISTRIBUIDORA MIGIL CALI S.A.; f.k.a. DISTRIBUIDORA MIGIL LTDA.; f.k.a. GRACADAL S.A.; f.k.a. MIGIL), Calle 5C No. 41-30, Cali, Colombia; Carrera 26 No. 5B-65, Cali, Colombia; Carrera 30 No. 5-12, Cali, Colombia; NIT #805003637-5 (Colombia) [SDNT].

75. DISTRIBUCIONES GLOMIL LTDA. (a.k.a. AUTOSERVICIO CIUDAD JARDIN; a.k.a. AUTOSERVICIO PENON), Carrera 2 Oeste No. 2-54 ap. 201, Cali, Colombia; Carrera 105 No. 15A-53, Cali, Colombia; Avenida Colombia No. 2-45, Cali, Colombia; NIT #805008233-6 (Colombia) [SDNT].

76. DISTRIBUIDORA AGROPECUARIA COLOMBIANA S.A. (a.k.a. DIAGROCOL S.A.), Avenida 3 Bis Norte No. 23C-69, Cali, Colombia; NIT #805011649-7 (Colombia) [SDNT].

77. DISTRIBUIDORA DE DROGAS CONDOR LTDA. (a.k.a. CONDOR), Calle 68 52-05, Bogota, Colombia; Calle 10 No. 32A-64, Bogota, Colombia [SDNT].

78. DISTRIBUIDORA DE DROGAS LA REBAJA S.A. (a.k.a. DISTRIBUIDORA DE DROGAS LA REBAJA PRINCIPAL S.A.; a.k.a. DROGAS LA REBAJA), Carrera 7 13-132 piso 4, Cali, Colombia; Calle 10 No. 4-47 Piso 19, Cali, Colombia; Calle 18 121-130, Cali, Colombia; Calle 14 6-66, Cali, Colombia; Carrera 10 11-71, Cali, Colombia; Carrera 7A 14-25 piso 2, Cali, Colombia; Carrera 99 No. 46 A-10 Blg 6 y 8, Bogota, Colombia [SDNT].

79. DISTRIBUIDORA DE MEDICAMENTOS DISFOGEN LTDA. (a.k.a. DISFOGEN LTDA.), Calle 13 No. 27-39 Int. 4, Bogota, Colombia; Carrera 42C No. 22C-36, Bogota, Colombia; NIT #830116941-6 (Colombia) [SDNT].

80. DISTRIBUIDORA DEL VALLE E.U., Calle, 18 No. 106-98 of. 303, Cali, Colombia; Diag., 23 Tr. 10-99, Cali, Colombia; NIT #805007212-7 (Colombia) [SDNT].

81. DISTRIBUIDORA MIGIL LTDA. (f.k.a. DISTRIBUIDORA MIGIL BOGOTA LTDA.; a.k.a. DISTRIBUIDORA MIGIL CALI S.A.; a.k.a. MIGIL), Calle 5C 41-30, Cali, Colombia; Carrera 30-5-12, Cali, Colombia; Carrera 26 5B-65, Cali, Colombia [SDNT].

82. DISTRIBUIDORA MYRAMIREZ S.A., Calle 33BN No. 2BN-49 apt. 503A, Cali, Colombia; Carrera 69A No. 49A-49, Bogota, Colombia [SDNT].

83. DISTRIBUIDORA SANAR DE COLOMBIA S.A., Calle 18 No. 106-98 of. 206, 207, 302 and 303, Cali, Colombia; Carrera 3 No. 11-32 of. 939, Cali, Colombia; Carrera 13A No. 89-38, of. 713, Bogota, Colombia; NIT #805011728-0 (Colombia) [SDNT].

84. DISTRIEXPORT COMERCIALIZADORA INTERNACIONAL S.A. (a.k.a. DISTRIEXPORT C.I. S.A.; a.k.a. DISTRIEXPORT S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT #830047057-3 (Colombia) [SDNT].

85. DROCARD S.A., Calle 39 Bis A No. 27-16, Bogota, Colombia; Transversal 29 No. 39-92, Bogota, Colombia; NIT #830059716-0 (Colombia) [SDNT].

86. DROGAS LA REBAJA BARRANQUILLA S.A., Local Cerete, Barranquilla, Colombia; Avenida Pedro Heredia, Barranquilla, Colombia; Local de Riohacha, Barranquilla, Colombia [SDNT].

87. DROGAS LA REBAJA BUCARAMANGA S.A., Local No. 2, Cucuta, Colombia; Local No. 1, Bucaramanga, Colombia; Local No. 1, Cucuta, Colombia; Local 201, Valledupar, Colombia; Local No. 6, Cucuta, Colombia; Local No. 7, Cucuta, Colombia; Local No. 9, Cucuta, Colombia [SDNT].

88. DROGAS LA REBAJA CALI S.A., Local Comuneros No. 20, Cali, Colombia; Barrio Siloe, Cali, Colombia; Calle 13 #6-85, Cali, Colombia; Calle 3 #4-02 B/Ventura, Cali, Colombia; Santander de Quilichao, Cali, Colombia; Local del Poblado No. 17, Cali, Colombia [SDNT].

89. DROGAS LA REBAJA NEIVA S.A., Neiva, Colombia [SDNT].

90. DROGAS LA REBAJA PASTO S.A., Calle 18 #26-40, Pasto, Colombia; Local No. 13, Puerto Asis, Colombia; Local No. 6, Pasto, Colombia [SDNT].

91. DROGAS LA REBAJA PEREIRA S.A., Local Dos Quebradas, Pereira, Colombia; Local Cajamarca, Pereira, Colombia; Local la Virginia, Pereira, Colombia; Local Santa Rosa de Cabal, Pereira, Colombia [SDNT].

92. DROMARCA Y CIA. S.C.S., Calle 39 Bis A No. 27-169, Bogota, Colombia; Calle 12B No. 28-58, Bogota, Colombia; NIT #800225556-1 (Colombia) [SDNT].

93. ESPIBENA COMERCIALIZADORA DE MEDICAMENTOS GENERICOS S.A. (a.k.a. ESPIBENA S.A.), Luis Cordero 1154 y Juan Leon Mera, Edificio Gabriela Mistral, Quito, Ecuador; RUC #1791706420001 (Ecuador) [SDNT].

94. EUROMAR CARIBE S.A., Calle 7 No. 6-95, Edificio Marlin, Apto. 4A, Cartagena, Colombia; Carrera 3 No. 8-38, Cartagena, Colombia; NIT #806008708-6 (Colombia) [SDNT].

95. EXPORT CAFE LTDA., Carrera 7 No. 11-22 of. 413, Cali, Colombia [SDNT].

96. FARALLONES STEREO 91.5 FM, Calle 15N No. 6N-34 piso 15, Edificio Alcazar, Cali, Colombia [SDNT].

97. FARFALLA INVESTMENT S.A., Calle Elida Diez. Nuevo Reparto El Carme Edif. Milena No. 1, Panama City, Panama; RUC #1986361395028 (Panama) [SDNT].

98. FARMA 3.000 LIMITADA, Calle 12B No. 27-39 of. 203, Bogota, Colombia; Calle 39 BIS A No. 27-16 and 27-20, Bogota, Colombia; Via Circunvalar, Bodega M-A-3, Barranquilla, Colombia; NIT #802012873-4 (Colombia) [SDNT].

99. FARMA XXI LTDA., Calle 12 No. 5-07 of. 301, Neiva, Huila, Colombia; Calle 39 BIS A No. 27-16 and 27-20, Bogota, Colombia; NIT #813006330-2 (Colombia) [SDNT].

100. FARMACOOP (a.k.a. COOPERATIVA MULTIACTIVA DE COMERCIALIZACION Y SERVICIOS FARMACOOP; f.k.a. LABORATORIOS KRESSFOR DE COLOMBIA S.A.), A.A. 18491, Bogota, Colombia; Calle 17A No. 28A-43, Bogota, Colombia; Calle 16 No. 28A-51, Bogota, Colombia; Calle 16 No. 28A-57, Bogota, Colombia; Calle 17A No. 28-43, Bogota, Colombia; NIT #830010878-3 (Colombia) [SDNT].

101. FARMAHOGAR (a.k.a. DROGUERIA FARMAHOGAR; a.k.a. FARMAHOGAR COPSERVIR 19), Carrera 7 No. 118-38, Bogota, Colombia; Avenida 7 No. 118-46, Bogota, Colombia; NIT #830011670-3 (Colombia) [SDNT].

102. FARMALIDER S.A., Calle 17 Norte No. 3N-16, Cali, Colombia; NIT #805026183-2 (Colombia) [SDNT].

103. FARMEDIS LTDA., Calle 12 No. 5-07 of. 301, Neiva, Colombia; Calle 17A No. 28A-43, Bogota, Colombia; Carrera 42C No. 22C-36, Bogota, Colombia; NIT #813009188-6 (Colombia) [SDNT].

104. FIDUSER LTDA., Calle 12A No. 27-72, Bogota, Colombia; NIT #830013160-8 (Colombia) [SDNT].

105. FLEXOEMPAQUES LTDA. (f.k.a. PLASTICOS CONDOR LTDA.), Carrera 13 No. 16-62, Cali, Colombia; NIT #800044167-2 (Colombia) [SDNT].

106. FOGENSA S.A. (a.k.a. FORMAS GENERICAS FARMACEUTICAS S.A.), Carrera 42C No. 22C-36, Bogota, Colombia; Calle 53 No. 31-52, Bucaramanga, Colombia; Calle 53 No. 31-69, Bucaramanga, Colombia; NIT #804005325-8 (Colombia) [SDNT].

107. FUNDACION VIVIR MEJOR (a.k.a. F.V.M.), Calle 8 No. 22-60, Cali, Colombia; NIT #805002213-1 (Colombia) [SDNT].

108. FUNDASER (a.k.a. FUNDACION DE CALI PARA EL DESARROLLO HUMANO; a.k.a. FUNDACION PARA EL SERVICIO DEL SER INTEGRAL; a.k.a. FUNDECALI), Calle 2 No. 4-14 of. 101, Cali, Colombia; Calle 29 Norte No. 6N-43, Cali, Colombia; NIT #800243417-2 (Colombia) [SDNT].

109. G M C GRUPO MAQUILACION COLOMBIANO, Calle 68B No. 105F-80, Bogota, Colombia; Carrera 66A No. 48-91, Bogota, Colombia; NIT #41322501 (Colombia) [SDNT].

110. GENERAL DE NEGOCIOS Y ADMINISTRACION LTDA. (a.k.a. GENEGA LTDA.), Calle 10 No. 4-47 piso 18, Cali, Colombia; Carrera 3 No. 11-32 of. 939, Cali, Colombia; NIT #805006744-9 (Colombia) [SDNT].

111. GENERAL DE OBRAS Y ALQUILERES S.A. (a.k.a. GOYASA), 9 Calle Juan Ramon Jimenez, Marbella, Malaga 29601, Spain; Urbanizacion Puente Romano Fase II Local 37-38, Marbella, Malaga 29602, Spain; Calle Castillo De Ponferrada 56 Villafranca Del Castillo, Madrid 28692, Spain; Calle Castillo De Ponferrada 54 Villanueva De La Canada, Madrid 28692, Spain; Co. Cruz No. 5, Madrid 28023, Spain; Calle Pere De Lluna 17, Reus, Tarragona 43204, Spain; Calle Coso 98-100, Zaragoza, Zaragoza 50001, Spain; C.I.F. A-81847204 (Spain) [SDNT].

112. GENERICOS ESPECIALES S.A. (a.k.a. GENES S.A.), Carrera 42C No. 22C-36, Bogota, Colombia; NIT #830050661-3 (Colombia) [SDNT].

113. GESTION DE ADMINISTRACIONES SIP S.L., Avenida Miramar No. 17 Portal 2 7 F, Fuengirola, Malaga 29640, Spain; C.I.F. B-92255363 (Spain) [SDNT].

114. GIAMX LTDA., Calle 80 No. 37-30, Bogota, Colombia; NIT #830095943-9 (Colombia) [SDNT].

115. GLAJAN S.A., Transversal 29 No. 39-92, Bogota, Colombia; NIT #830023266-2 (Colombia) [SDNT].

116. HAYDEE DE MUNOZ Y CIA. S. EN C., Avenida 6N No. 23DN-16, Cali, Colombia; Avenida 4N No. 5N-20, Cali, Colombia [SDNT].

117. HIELO CRISTAL Y REFRIGERACION LTDA. (a.k.a. CUATRO FRIO), Carrera 44A No. 9C-85, Bogota, Colombia; Carrera 8 No. 32-16, Cali, Colombia; NIT #890303017-5 (Colombia) [SDNT].

118. HORMAC PLANNING S.L., Calle Marques Del Duero, 76—Plt 3C, San Pedro De Alcantara, Marbella, Malaga 29670, Spain; C.I.F. B-64472756 (Spain) [SDNT].

119. IMPORT MAPRI LTDA., Carrera 7 No. 17-01 of. 603, Bogota, Colombia; Carrera 16 Bis No. 148-37, Bogota, Colombia; NIT #830079014-4 (Colombia) [SDNT].

120. INCOMMERCE S.A., Calle 13 No. 66-14, Cali, Colombia; NIT #805023544-4 (Colombia) [SDNT].

121. INDUSTRIAL DE GESTION DE NEGOCIOS E.U., Calle 5C No. 41-30, Cali, Colombia; NIT #805005946-5 (Colombia) [SDNT].

122. INGENIERIA TECNICA EN COMUNICACIONES LTDA. (a.k.a. INTENCOM), Carrera 4 No. 26-33, Local 102, Cali, Colombia [SDNT].

123. INMOBILIARIA IMTASA LTDA., Calle 10 No. 4-47 piso 18, Cali, Colombia; Carrera 3 No. 11-32 of. 939, Cali, Colombia; NIT #805012623-0 (Colombia) [SDNT].

124. INTERAMERICANA DE CONSTRUCCIONES S.A. (f.k.a. ANDINA DE CONSTRUCCIONES S.A.), Calle 12 Norte No. 9N-56, Cali, Colombia; NIT #800237404-2 (Colombia) [SDNT].

125. INVERSIETE S.A., Carrera 3 No. 11-32 of. 939, Cali, Colombia; NIT #800234909-6 (Colombia) [SDNT].

126. INVERSIONES ARA LTDA., Avenida 4N 6N-67 of. 601, Cali, Colombia; Avenida 6AN 23DN-16 of. 402, Cali, Colombia; Avenida 6AN 18-69 1-128, Cali, Colombia; Club El Remanso, Jamundi, Colombia [SDNT].

127. INVERSIONES CARFENI, S.L., Calle Gran Via 80, Madrid 28013, Spain [SDNT].

128. INVERSIONES CLAUPI S.L., Calle Consuegra 3, 28036 Madrid, Madrid, Spain; C.I.F. B81684421 (Spain) [SDNT].

129. INVERSIONES DOBLE CERO E.U., Transversal 29 No. 39-92, Bogota, Colombia; NIT #830021696-7 (Colombia) [SDNT].

130. INVERSIONES EL PROGRESO S.A. (a.k.a. “I.P. S.A.”), Carrera 3 No. 8-38 Ofc. 1, Cartagena, Colombia; Carrera 4 No. 8-41, Cartagena, Colombia; Olaya Herrera Carrera 68 No. 32B-45, Cartagena, Colombia; NIT #806006517-7 (Colombia) [SDNT].

131. INVERSIONES ESPANOLAS FEMCAR S.L., Ronda Manuel Granero 69, piso 4-1, 28043 Madrid, Madrid, Spain; C.I.F. B82290727 (Spain) [SDNT].

132. INVERSIONES GEELE LTDA., Calle 17A No. 28A-23, Bogota, Colombia [SDNT].

133. INVERSIONES INMOBILIARIAS VALERIA S.L., Calle Consuegra 3, 28036 Madrid, Madrid, Spain; Calle Zurbano 76, 7, Madrid, Madrid, Spain; C.I.F. B81681454 (Spain) [SDNT].

134. INVERSIONES JAER LTDA., Apartado Aereo 10454, Cali, Colombia; Carrera 7 No. 34-341 Bodega 7, Cali, Colombia; Carrera 1H No. 39-42, Cali, Colombia; Calle 6A Norte No. 2N-36 of. 436, Cali, Colombia; NIT #890332242-1 (Colombia) [SDNT].

135. INVERSIONES KANTON LTDA., Avenida 10A No. 5E-26 La Rivera, Cucuta, Norte de Santander, Colombia; NIT #807000572-9 (Colombia) [SDNT].

136. INVERSIONES LA SEXTA LTDA., Calle 10 No. 4-47 piso 19, Cali, Colombia [SDNT].

137. INVERSIONES LAMARC S.A., Carrera 3 No. 8-38, Cartagena, Colombia; Carrera 4a No. 8-41, Cartagena, Colombia; NIT #900162108-6 (Colombia) [SDNT].

138. INVERSIONES MONDRAGON Y CIA. S.C.S. (f.k.a. MARIELA DE RODRIGUEZ Y CIA. S. EN C.), Calle 12 Norte No. 9N-56/58, Cali, Colombia; NIT #890328152-1 (Colombia) [SDNT].

139. INVERSIONES NUEVO DIA E.U., Calle 86 No. 103C-49, Bogota, Colombia; NIT #830020410-3 (Colombia) [SDNT].

140. INVERSIONES RODRIGUEZ RAMIREZ Y CIA. S.C.S.S., Calle 10 No. 4-47 piso 19, Cali, Colombia [SDNT].

141. INVERSIONES SAMPLA E.U., Calle 86 No. 103C-49, Bogota, Colombia; NIT #830020409-5 (Colombia) [SDNT].

142. INVERSIONES SAN JOSE LTDA., Carrera 7 No. 34-341, Cali, Colombia; Calle 44 No. 1E-135, Cali, Colombia; Calle 44 No. 1E-155, Cali, Colombia; Apartado Aereo 10454, Cali, Colombia; NIT #800079682-5 (Colombia) [SDNT].

143. INVERSIONES Y COMERCIALIZADORA RAMIREZ Y CIA. LTDA., Calle 12N No. 9N-58, Cali, Colombia; Avenida 4 No. 8N-67, Cali, Colombia; NIT #800075600-3 (Colombia) [SDNT].

144. INVERSIONES Y CONSTRUCCIONES ABC S.A. (f.k.a. INVERSIONES CAMINO REAL S.A.), Calle 10 No. 4-47 piso 19, Cali, Colombia; Calle 12 Norte No. 9N-56/58, Cali, Colombia; NIT #890325389-4 (Colombia) [SDNT].

145. INVERSIONES Y DISTRIBUCIONES A M M LTDA., Calle 5 No. 50-103, Cali, Colombia; NIT #800192791-2 (Colombia) [SDNT].

146. JAROMO INVERSIONES S.L., Calle Florencio Castillo 8, portal 7, piso 2-21, 28043 Madrid, Madrid, Spain; C.I.F. B81784548 (Spain) [SDNT].

147. JOMAGA DE COSTA RICA S.A. (a.k.a. INTERFARMA S.A.), 200 Norte y 25 Oeste del Restaurante Tierra Colombiana, San Francisco de Dos Rios, San Jose, Costa Rica; Numero Judicial #3-101-76327 (Costa Rica) [SDNT].

148. JYG ASESORES LTDA., Carrera 32 No. 25-71, Bogota, Colombia; NIT #830120367-3 (Colombia) [SDNT].

149. LABORATORIOS BLAIMAR DE COLOMBIA S.A. (a.k.a. BLAIMAR), Calle 12B 27 39, Bogota, Colombia [SDNT].

150. LABORATORIOS BLANCO PHARMA S.A. (a.k.a. BLANCO PHARMA S.A.), Carrera 99 y 100 No. 46A-10, Bodega 4, Bogota, Colombia [SDNT].

151. LABORATORIOS KRESSFOR DE COLOMBIA S.A. (a.k.a. KRESSFOR), Calle 17A 28 43, Bogota, Colombia; Calle 16 28A 51, Bogota, Colombia; Calle 16 28A 57, Bogota, Colombia; Calle 17 28A-43, Bogota, Colombia [SDNT].

152. LABORATORIOS PROFARMA LTDA., Calle 17 No. 28A-13, Bogota, Colombia; Calle 23 No. 19-75, Bogota, Colombia; Calle 74 No. 15-80 of. 611 Int. 1, Bogota, Colombia; NIT #800217468-8 (Colombia) [SDNT].

153. LABORATORIOS Y COMERCIALIZADORA DE MEDICAMENTOS DROBLAM S.A. (a.k.a. DROBLAM S.A.), Carrera 21 No. 13B-33, Cali, Colombia; NIT #805014078-5 (Colombia) [SDNT].

154. LATINA DE COSMETICOS Y DISTRIBUCIONES S.A., Calle 12B No. 27-39, Bogota, Colombia; Carrera 28 No. 11-65 of. 712, Bogota, Colombia; Carrera 70 No. 54-30, Bogota, Colombia; NIT #830018857-5 (Colombia) [SDNT].

155. LATINOAMERICANA DE FARMACOS S.A. (a.k.a. FARMACIA ALMACEN POPULAR; a.k.a. FARMACIA AMAZONAS; a.k.a. FARMACIA ATENEA; a.k.a. FARMACIA CAROLINA 2; a.k.a. FARMACIA CHACON; a.k.a. FARMACIA DEL PUEBLO; a.k.a. FARMACIA DORAL; a.k.a. FARMACIA ECONOMICA; a.k.a. FARMACIA INMACULADA; a.k.a. FARMACIA JARDIN DEL SUR; a.k.a. FARMACIA JARDIN SUR; a.k.a. FARMACIA LA COLINA; a.k.a. FARMACIA LA ECONOMICA; a.k.a. FARMACIA LA MODERNA; a.k.a. FARMACIA LOS SAUCES; a.k.a. FARMACIA MODERNA; a.k.a. FARMACIA PROBETA; a.k.a. FARMACIA PROVIDA; a.k.a. FARMACIA SAN MIGUEL; a.k.a. FARMACIA SAN VICENTE; a.k.a. LATINFARMACOS S.A.; a.k.a. SUPERFARMACIA), Ambato, Ecuador; Av. 10 de Agosto 2753 y Gral. Vicente Aguirre, Edificio Freile Ardiani, Quito, Ecuador; Av. Amazonas 1134 y General Foch, Quito, Ecuador; Av. Amazonas 244 y Jorge Washington, Quito, Ecuador; Av. Rodrigo de Chavez 387, Quito, Ecuador; Cayambe, Ecuador; Gualberto Perez 633 y Andres Perez, Quito, Ecuador; Michelena y Mariscal Sucre, Quito, Ecuador; Tres de Julio y Cuenca, Santo Domingo, Ecuador; Tulcan, Ecuador; Quito, Ecuador; El Carmen, Ecuador; Santo Domingo Colorados, Ecuador; RUC #1791286812001 (Ecuador) [SDNT].

156. LAUREANO RAMOS GABINETE TECNICO S.L., Calle Inca 5 Portal 1 Bloque IV 2 D, Fuengirola, Malaga 29640, Spain; C.I.F. B-92219831 (Spain) [SDNT].

157. LEMOFAR LTDA. (a.k.a. LMF LTDA.), Calle 39 Bis A No. 27-12, Bogota, Colombia; NIT #830116405-1 (Colombia) [SDNT].

158. LITOPHARMA (a.k.a. COOPERATIVA MULTIACTIVA DEL LITORAL), Calle 72 No. 48-60 Local 1A Centro Ejecutivo Kathand, Barranquilla, Colombia; Calle 72 No. 48-60 Local 1B, Barranquilla, Colombia; Carrera 3 Sur No. 43-62, Barranquilla, Colombia; NIT #802012669-8 (Colombia) [SDNT].

159. M C M Y CIA. LTDA. (a.k.a. “HAPPY DAYS”), Calle 25 Norte No. 3AN-39, Cali, Colombia; Calle 22 Norte No. 5A-75, Cali, Colombia; NIT #800204288-2 (Colombia) [SDNT].

160. M. RODRIGUEZ O. Y CIA. S. EN C.S., Cali, Colombia [SDNT].

161. MACROFARMA S.A., Calle 17 Norte No. 3N-16, Cali, Colombia; NIT #816005709-6 (Colombia) [SDNT].

162. MAGEN LTDA., Calle 23 No. 19-75, Bogota, Colombia; Carrera 7 No. 17-01 of. 602, Bogota, Colombia; NIT #830070365-3 (Colombia) [SDNT].

163. MAPRI DE COLOMBIA LTDA., Calle 12B No. 27-40 Int. 4, Bogota, Colombia; Carrera 129 No. 29-57 Int. 137, Bogota, Colombia; NIT #830103959-1 (Colombia) [SDNT].

164. MARIELA MONDRAGON DE R. Y CIA. S. EN C., Calle 12 Norte No. 9N-56/58, Cali, Colombia; Avenida 4 Norte No. 8N-67, Cali, Colombia; NIT #800122032-1 (Colombia) [SDNT].

165. MARIN ESTRADA Y CIA. S. EN C.S., Carrera 8 No. 32-16, Cali, Colombia; Calle 44 No. 1E-155, Cali, Colombia; Calle 45 No. 1E-86, Cali, Colombia; Apartado Aereo 1175, Cali, Colombia; NIT #800083114-9 (Colombia) [SDNT].

166. MATERIAS PRIMAS Y SUMINISTROS S.A. (a.k.a. MATERIAS PRIMAS Y SUMINISTROS LTDA.; a.k.a. MATSUM S.A.), Calle 12B No. 28-58, Bogota, Colombia; Calle 39 Bis A No. 27-20, Bogota, Colombia; Calle 39 Bis A No. 27-16, Bogota, Colombia; NIT #830031863-3 (Colombia) [SDNT].

167. MAXITIENDAS TODO EN UNO, Avenida Guadalupe con Avenida Simon Bolivar, Cali, Colombia [SDNT].

168. MEDIA MARKETING E.U., Avenida 4N No. 6-67 of. 610, Cali, Colombia; NIT #805019234-0 (Colombia) [SDNT].

169. MEGAPHARMA LTDA. (a.k.a. COMERCOOP; a.k.a. COOPERATIVA HUILENSE DE COMERCIALIZACION COMERCOOP LTDA.; a.k.a. COOPERATIVA MULTIACTIVA DE DISTRIBUCION MEGAPHARMA LTDA.), Calle 15 No. 31-99 Bodega 5 Parque Industrial Acerosa, Yumbo, Colombia; Carrera 26 No. 62-42, Bogota, Colombia; Diag. 57A No. 24-84, Bogota, Colombia; NIT #813002466-7 (Colombia) [SDNT].

170. MEGAPLAST S.A., Calle 0 No. 2-276, Palmira, Valle, Colombia; NIT #815002727-1 (Colombia) [SDNT].

171. MUNOZ Y RODRIGUEZ Y CIA. LTDA., Avenida 6N No. 23DN-26, Cali, Colombia [SDNT].

172. OCCIDENTAL COMUNICACIONES LTDA., Calle 44N No. 2BN-10, Cali, Colombia; Calle 19N No. 2N-29 piso 10 Sur, Cali, Colombia; NIT #800146996-1 (Colombia) [SDNT].

173. PARQUE INDUSTRIAL LAS DELICIAS LTDA., Carrera 7 No. 34-341 L-6, Cali, Colombia; Carrera 7 No. 34-341, Cali, Colombia [SDNT].

174. PATENTES MARCAS Y REGISTROS S.A. (a.k.a. PATMAR S.A.), Transversal 29 No. 39-92, Bogota, Colombia; NIT #830016913-0 (Colombia) [SDNT].

175. PATRIMONIO DE GESTION Y ADMINISTRACION SIP S.L., Avenida Jesus Santos Rein Edificio Ofisol 4 1 A, Fuengirola, Malaga 29640, Spain; C.I.F. B-92255389 (Spain) [SDNT].

176. PENTA PHARMA DE COLOMBIA S.A., Calle 17A No. 28A-43, Bogota, Colombia; Calle 17A No. 28A-23, Bogota, Colombia [SDNT].

177. PENTACOOP LTDA. (f.k.a. PENTA PHARMA DE COLOMBIA S.A.), Calle 17A No. 28A-43, Bogota, Colombia; Calle 17A No. 28A-23, Bogota, Colombia; NIT #830016989-1 (Colombia) [SDNT].

178. PLASTICOS CONDOR LTDA., Carrera 13 No. 16-62, Cali, Colombia [SDNT].

179. POLIEMPAQUES LTDA., Carrera 13A No. 16-49, Cali, Colombia; Carrera 13A No. 16-55, Cali, Colombia; Carrera 13 No. 16-62, Cali, Colombia; NIT #805003763-5 (Colombia) [SDNT].

180. PREFABRICADOS Y AGREGADOS DE COLOMBIA LTDA. (a.k.a. PREFAGRECOL LTDA.), La Cordialidad Transversal 54 No. 31I-150, Cartagena, Colombia; La Carolina Urbanizacion Carrera 86 No. 35-103, Cartagena, Colombia; Mamonal-Gambote Via Aguasprieta, Cartagena, Colombia; NIT #900171299-2 (Colombia) [SDNT].

181. PRODUCCIONES CARNAVAL DEL NORTE Y COMPANIA LIMITADA, Calle 22N No. 5A-75 05, Cali, Colombia; NIT #800250531-3 (Colombia) [SDNT].

182. PRODUCTOS GALO Y CIA. LTDA., Avenida 42 No. 20-47, Bogota, Colombia; Apartado Aereo 58263, Bogota, Colombia; NIT #800102729-0 (Colombia) [SDNT].

183. PROSALUD Y BIENESTAR S.A. (a.k.a. PROSALUD CENTROS MEDICOS Y DROGUERIA), Carrera 2 No. 20-47, Cali, Colombia; Calle 23 No. 28-11, Cali, Colombia; Carrera 2 No. 52-27, Cali, Colombia; Carrera 46 No. 37-03, Cali, Colombia; Calle 22A No. 10-54, Cali, Colombia; Carrera 15 No. 34-102, Cali, Colombia; Calle 44 No. 4N-74, Cali, Colombia; Calle 2 No. 4-70/72, Cali, Colombia; Carrera 7P No. 76-04, Cali, Colombia; Calle 19 No. 6-31, Cali, Colombia; Carrera 94 No. 4-76, Cali, Colombia; Carrera 4N No. 81-04 esq., Cali, Colombia; Calle 71A No. 1D-07, Cali, Colombia; Carrera 29 No. 45-84, Cali, Colombia; NIT #890311169-1 (Colombia) [SDNT].

184. PROSPECTIVA EMPRESA UNIPERSONAL (a.k.a. PROSPECTIVA E.U.), Calle 29 Norte No. 6N-43, Cali, Colombia; Calle 18 No. 106-98, of. 302 and 303, Cali, Colombia; NIT #805006189-0 (Colombia) [SDNT].

185. PROVIDA E.U. (a.k.a. PROVIDA LABORATORIO CLINICO Y PATALOGIA; a.k.a. PROVIDA Y DISENO), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT #805016716-5 (Colombia) [SDNT].

186. PROYECTO EMPRESARIAL COSTA ARENA S.L., Urbanizacion Puente Romano Fase II Local Bajo 37-38, Marbella, Malaga 29602, Spain; C.I.F. B-92506872 (Spain) [SDNT].

187. QUANTICA PROJECT S.L., Calle Marques Del Duero, 76—PLT 3C, San Pedro De Alcantara, Marbella, Malaga 29670, Spain; C.I.F. B-64472814 (Spain) [SDNT].

188. RADIO UNIDAS FM S.A., Calle 15N No. 6N-34 piso 15, Edificio Alcazar, Cali, Colombia; Calle 19N No. 2N-29 piso 10 Sur, Cali, Colombia [SDNT].

189. RECITEC LTDA., Calle 16 No. 12-49, Cali, Colombia; NIT #800037780-9 (Colombia) [SDNT].

190. RENTAR INMOBILIARIA S.A., Calle 10 No. 4-47 piso 18, Cali, Colombia; NIT #805012015-2 (Colombia) [SDNT].

191. REPARACIONES Y CONSTRUCCIONES LTDA. (a.k.a. RECONSTRUYE LTDA.), Avenida 6N No. 23DN-16 of. 402, Cali, Colombia; NIT #800053838-4 (Colombia) [SDNT].

192. REPRESENTACIONES Y DISTRIBUCIONES HUERTAS Y ASOCIADOS S.A. (a.k.a. REPRESENTACIONES Y DISTRIBUCIONES HUERTAS Y ASOCIADOS LTDA.; a.k.a. TELEFARMA), Calle 124 No. 6-60, Bogota, Colombia; Avenida 42 No. 20-47, Bogota, Colombia; NIT #860527387-8 (Colombia) [SDNT].

193. REVISTA DEL AMERICA LTDA., Calle 23AN No. 5AN-19, Cali, Colombia [SDNT].

194. RIONAP COMERCIO Y REPRESENTACIONES S.A., Quito, Ecuador; Av. 10 de Agosto y Gral. Vicente Aguirre, Edificio Freile Ardiani Local 101-103, Quito, Ecuador; RUC #1791269969001 (Ecuador) [SDNT].

195. RODRIGUEZ Y TOLBANOS S.A., Plaza de Espana 2, 1-C, Alcala de Henares, Madrid, Spain; Pgno. Ind. Camporrosso, C/Buenos Aires, 1 nave 15, 28806 Alcala de Henares, Madrid, Spain; C.I.F. A82467887 (Spain) [SDNT].

196. SAN VICENTE S.A. (f.k.a. INVERSIONES INVERVALLE S.A.; f.k.a. INVERVALLE S.A.), Avenida 2N No. 7N-55 of. 501, Cali, Colombia; Calle 70N No. 14-31, Cali, Colombia; Avenida 4 Norte No. 17N-43 L.1, Cali, Colombia; NIT #800061212-8 (Colombia) [SDNT].

197. SEGECOL LTDA., Carrera 33 No. 48-95 of. 205, Bucaramanga, Colombia; NIT #804015530-4 (Colombia) [SDNT].

198. SEGUWRA DEL VALLE E.U., Avenida 11N No. 7N-201, Cali, Colombia; NIT #805016035-8 (Colombia) [SDNT].

199. SERVICIOS DE CONTROL INTEGRAL DE OBRAS S.L. (a.k.a. SIP PROJECT MANAGEMENT), Parque Tecnologico Andalucia Centro De Empresas P-7 Avenida Juan Lopez P 17, Campanillas, Malaga 29590, Spain; Calle Marie Curie Edificio I+D 11 No. 4 Planta 1a Oficina D-9 Parque Tecnologico De Andalucia, Campanillas, Malaga 29590, Spain; C.I.F. B-92174689 (Spain) [SDNT].

200. SERVICIOS DE CONTROL INTEGRAL DE OBRAS S.L. SIP SUCURSAL CARTAGENA, Carrera 3 No. 8-38, Cartagena, Colombia; Carrera 4 No. 8-41, Cartagena, Colombia; NIT #900106267-0 (Colombia) [SDNT].

201. SERVICIOS DE CONTROL INTEGRAL FACILITIES MANAGEMENT S.L., Calle Marie Curie Edificio I+D 11 No. 4 Planta 1a Oficina D-9 Parque Tecnologico De Andalucia, Campanillas, Malaga 29590, Spain; C.I.F. B-92649276 (Spain) [SDNT].

202. SERVICIOS DE LA SABANA E.U. (a.k.a. SERBANA E.U.), Carrera 13A No. 89-38 of. 713, Bogota, Colombia; NIT #830050331-8 (Colombia) [SDNT].

203. SERVICIOS FARMACEUTICOS SERVIFAR S.A. (a.k.a. SERVIFAR S.A.), Carrera 4 No. 31-96, Cali, Colombia; NIT #805003968-8 (Colombia) [SDNT].

204. SERVICIOS FUTURA LIMITADA (a.k.a. SERVIFUTURA LTDA.), Calle 12B No. 27-39, Bogota, Colombia; Carrera 28 No. 11-65 of. 416, Bogota, Colombia; Carrera 28 No. 11-65 of. 712, Bogota, Colombia; Carrera 70 No. 54-30, Bogota, Colombia; NIT #830044689-4 (Colombia) [SDNT].

205. SERVICIOS INMOBILIARIOS LTDA., Avenida 2N No. 7N-55 of. 605, Cali, Colombia; Carrera 65 No. 13-82, Cali, Colombia [SDNT].

206. SERVICIOS LOGISTICOS Y MARKETING LTDA. (a.k.a. S L M K LTDA.), Carrera 28 No. 11-65/67 of. 717 Centro Comercial Ricaurte, Bogota, Colombia; NIT #830044689-4 (Colombia) [SDNT].

207. SERVICIOS MYRAL E.U., Calle 6 Oeste No. 6-38, Cali, Colombia; Calle 29 Norte No. 6N-43, Cali, Colombia; NIT #805022419-7 (Colombia) [SDNT].

208. SERVICIOS SOCIALES LTDA., Barranquilla, Colombia [SDNT].

209. SHARPER S.A., Calle 17A No. 28A-43, Bogota, Colombia; Calle 12B No. 28-58, Bogota, Colombia; Calle 12B No. 28-70, Bogota, Colombia; Calle 16 No. 28A-42, Bogota, Colombia; Calle 16 No. 28A-57, Bogota, Colombia; NIT #830026833-2 (Colombia) [SDNT].

210. SHARVET S.A., Calle 12B No. 28-70, Bogota, Colombia; NIT #830050743-9 (Colombia) [SDNT].

211. SIP CONSULTANCY SERVICES S.L., Calle Marie Curie Edificio I+D 11 No. 4 Planta 1a Oficina D-9 Parque Tecnologico De Andalucia, Campanillas, Malaga 29590, Spain; C.I.F. B-92725514 (Spain) [SDNT].

212. SISTEMAS Y SERVICIOS TECNICOS EMPRESA UNIPERSONAL (a.k.a. SISETEC), Calle 29 Norte No. 6N-43, Cali, Colombia; NIT #805013420-7 (Colombia) [SDNT].

213. SOCIEDAD COMERCIAL Y DEPORTIVA LTDA., Carrera 34 Diag. 29-86 Estadio Pascual Guerrero, Cali, Colombia; Carrera 34 Diag. 29-05, Cali, Colombia; Carrera 34 Diagonal 29 Estadio, Cali, Colombia; NIT #800141329-4 (Colombia) [SDNT].

214. SOLUCIONES COOPERATIVAS, Calle 15 No. 4-43 of. 250, Cali, Colombia; Calle 70 Sur No. 83-88, Bogota, Colombia; Carrera 32 No. 25-71, Bogota, Colombia; NIT #830118975-5 (Colombia) [SDNT].

215. SONAR F.M. E.U. DIETER MURRLE (a.k.a. FIESTA STEREO 91.5 F.M.; a.k.a. PRISMA STEREO 89.5 F.M), Calle 15 Norte No. 6N-34 of. 1003, Cali, Colombia; Calle 43A No. 1-29 Urb. Sta. Maria del Palmar, Palmira, Colombia; NIT #805006273-1 (Colombia) [SDNT].

216. SONAR F.M. S.A. (f.k.a. COLOR STEREO S.A.; f.k.a. COLOR'S S.A.; f.k.a. RADIO UNIDAS FM S.A.), Calle 15 Norte No. 6N-34 piso 15 Edificio Alcazar, Cali, Colombia; Calle 19N No. 2N-29 piso 10 Sur, Cali, Colombia; NIT #800163602-5 (Colombia) [SDNT].

217. SORAYA Y HAYDEE LTDA., Calle 15 Norte No. 6N-34, Piso 15, Cali, Colombia; NIT #805000643-6 (Colombia) [SDNT].

218. SU SERVICIO SOCIEDAD LTDA., Calle 50 No. 41-84, Barranquilla, Colombia; Calle 67 No. 47-03, Cartagena, Colombia; Calle 76 No. 45-19 Local 1B, Barranquilla, Colombia; NIT #802021041-1 (Colombia) [SDNT].

219. SUPERGEN LTDA., Calle 39 BIS A No. 27-16 and 27-20, Bogota, Colombia; Calle 53 No. 35A-13 of. 302, Bucaramanga, Colombia; NIT #804009924-8 (Colombia) [SDNT].

220. SUPERTIENDAS LA REBAJA, Avenida Colombia No. 2-45, Cali, Colombia; Calle 9, No. 26-98, Cali, Colombia [SDNT].

221. TECNICAS CONTABLES Y ADMINISTRATIVAS (a.k.a. TECONTA), Carrera 3 No. 11-32 of. 939, Cali, Colombia; Cedula No. 16242828 (Colombia) [SDNT].

222. TERAPIAS VETERINARIA LIMITADA (a.k.a. TERVET LTDA.), Calle 39 BIS A No. 27-16, Bogota, Colombia; NIT #830068307-1 (Colombia) [SDNT].

223. TOBOGON, Avenida Guadalupe con Avenida Simon Bolivar, Cali, Colombia [SDNT].

224. TRACKING INOVATIONS S.L., Calle Marques Del Duero 76-3C San Pedro De Alcantara, Marbella, Malaga 29670, Spain; C.I.F. B-63971360 (Spain) [SDNT].

225. TRIMARK LTDA., Calle 69 No. 10A-53 of. 505, Bogota, Colombia; Carrera 31 No. 23A-68, Bogota, Colombia; NIT #830117977-5 (Colombia) [SDNT].

226. UNDER PAR REAL ESTATE S.L., Calle Marques Del Duero 76-3C San Pedro De Alcantara, Marbella, Malaga 29670, Spain; C.I.F. B-92678473 (Spain) [SDNT].

227. VALORES CORPORATIVOS ESPANOLES S.L., Calle Consuegra 3, 28036 Madrid, Madrid, Spain; Calle Zurbano 76, 7, Madrid, Madrid, Spain; C.I.F. B81681447 (Spain) [SDNT].

228. VALORES MOBILIARIOS DE OCCIDENTE S.A., Bogota, Colombia; Avenida 6 Norte No. 23DN-16, Cali, Colombia; Avenida Colombia No. 2-45, Cali, Colombia; Carrera 1 No. 2-45, Cali, Colombia; Carrera 100 No. 11-90 of. 602, Cali, Colombia; NIT #800249439-1 (Colombia) [SDNT].

229. VILLARO LTDA., Calle 69 No. 10A-53 of. 502, Bogota, Colombia; NIT #830117443-4 (Colombia) [SDNT].

230. WORLD TRADE LTDA., Carrera 8 No. 16-77, Ibague, Colombia; NIT #809008109-5 (Colombia) [SDNT].

Dated: June 19, 2014.
Barbara C. Hammerle,
Acting Director, Office of Foreign Assets Control.

[FR Doc. 2014-14839 Filed 6-24-14; 8:45 am]

BILLING CODE 4811-AL-P